DEPARTMENT OF DEFENSE

Office of the Secretary

[Docket ID: DoD-2024-OS-0118]

Personnel Demonstration Project at the Defense Health Agency, Research and Development Science and Technology Reinvention Laboratory (STRL)

AGENCY: Under Secretary of Defense for Research and Engineering (USD(R&E)), Department of Defense (DoD).

ACTION: Notice.

SUMMARY: This serves as notice of the proposed adoption of an STRL personnel demonstration project plan and additional flexibilities by the Defense Health Agency, Research and Development (DHA R&D), a DoD STRL. DHA R&D is an STRL comprised of medical research organizations that were formerly components of Military Department organizations, including the U.S. Army Medical Research and Development Command (USAMRDC), a successor to the U.S. Army Medical Research and Material Command (USAMRMC). The DHA R&D proposes to adopt the personnel demonstration project plan of the USAMRDC at the Federal Register issue of March 3, 1998. In addition, DHA R&D proposes to adopt certain personnel flexibilities available to all DoD STRLs.

DATES: This proposal may not be implemented until a 30-day comment period is provided, comments addressed, and a final Federal Register notice published. To be considered, written comments must be submitted on or before December 13, 2024.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Attn: Mailbox 24, Suite 05F16, Alexandria, VA 22350-1700.

Instructions: All submissions must include the agency name, docket number and title for this Federal Register document. The general policy for comments and other submissions from members of the public is to make these submissions available for public viewing on the internet at http://www.regulations.gov as they are received without change, including any personal identifiers or contact information.

FOR FURTHER INFORMATION CONTACT:

• DHA R&D STRL: Linda Krout, 301-619-7276, linda.j.krout.civ@health.mil.

• Office of Under Secretary of Defense (Research and Engineering), DoD Laboratories, Defense Research Enterprise: Julia Parakkat, 703-625-5768, julia.b.parakkat.civ@mail.mil.

SUPPLEMENTARY INFORMATION: Pursuant to section 4121 of title 10, United States Code (U.S.C.), the Secretary of Defense is authorized to conduct personnel demonstration projects at laboratories designated as DoD STRLs. DoD STRLs must have an approved personnel demonstration project plan published in an FRN and fulfill any collective bargaining obligations before implementing the demonstration project or adopting the flexibilities available to other DoD STRL demonstration projects. In implementing this plan, DHA R&D will establish internal operating procedures as appropriate.

1. Background

A personnel demonstration project was implemented at the USAMRMC in accordance with the plan at 63 FR 10440 (March 3, 1998). In 2019, the USAMRMC was redesignated as the USAMRDC and the personnel demonstration project notice at 63 FR 10440 was updated through a minor modification on August 30, 2019, to reflect this change. On May 5, 2024, following the transfer of USAMRDC components to DHA R&D, the Deputy Assistant Secretary of Defense for Science and Technology Foundations designated DHA R&D as a DoD STRL. DHA R&D has implemented the USAMRDC personnel demonstration project authorities for the DHA R&D components that were formerly subordinate components of USAMRDC. This notice proposes to implement the personnel demonstration project for all DHA R&D components by adopting the USAMRDC personnel demonstration project plan and other flexibilities available to all DoD STRLs.

The purpose of the demonstration project is to demonstrate that the effectiveness of DoD organizations can be enhanced by allowing greater managerial control over personnel functions and, at the same time, expand the opportunities available to employees through a more responsive and flexible personnel system.

2. DHA R&D Personnel Demonstration Project Plan

The demonstration project will cover approximately 1,224 DHA R&D positions. Approximately 59 percent of covered positions are at the following DHA R&D organizations located at Fort Detrick, Maryland: Medical Research and Development, Telemedicine and Advanced Technology Research, Medical Research Institute of Infectious Disease, Medical Research Acquisition Activity, and Medical Materiel Development Activity. The remaining positions are at the following sites: Medical Research Institute of Chemical Defense, Aberdeen Proving Ground, Maryland; Walter Reed Institute of Research, Forest Glen, Silver Spring, Maryland; Institute of Surgical Research and the Burn Center Directorate, Joint Base San Antonio, Texas. The majority of these positions transferred to DHA R&D from USAMRDC. DHA R&D has successfully implemented the USAMRDC personnel demonstration project authorities for DHA R&D components that were formerly subordinate organizations of USAMRDC. Based on experience gained and following careful consideration, DHA R&D has determined to conduct a personnel demonstration project for all DHA R&D components by adopting the USAMRDC personnel demonstration project plan and other flexibilities available to all DoD STRLs.

The DHA R&D will adopt the USAMRDC Personnel Demonstration Project plan outlined in 63 FR 10440 (March 3, 1998), including the following modifications approved pursuant to DoD Instruction 3201.05: minor modification to administrative occupational family, DJ 03 and 04 band structure of occupational series 1102 only (February 3, 2011); minor modification to pay for performance payment timeframe (January 5, 2018); minor modification to participating occupational series (November 28, 2022). Upon implementation of this personnel demonstration project, DHA R&D will also adopt the following flexibilities that are available to all DoD STRLs:

• 89 FR 44648 (May 21, 2024)

• 88 FR 10874 (February 22, 2023)

• 87 FR 72462 (November 25, 2022)

• 87 FR 58334 (September 26, 2022)

• 87 FR 40200 (July 6, 2022)

• 85 FR 78829 (December 7, 2020)

• 85 FR 5639 (January 31, 2020)

• 82 FR 43339 (September 15, 2017)

• 82 FR 29280 (June 28, 2017)

• 79 FR 43722 (July 28, 2014)

• 78 FR 29335 (May 20, 2013)

Dated: November 7, 2024.
Aaron T. Siegel,
Alternate OSD Federal Register Liaison Officer, Department of Defense.

[FR Doc. 2024-26267 Filed 11-12-24; 8:45 am]

BILLING CODE 6001-FR-P